FEDERAL COMMUNICATIONS COMMISSION

Notice of Public Information Collection(s) Being Reviewed by the Federal Communications Commission

February 20, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 2, 2001. If you anticipate that you will be submitting comments, but find it difficult to do so within the period of time allowed by this notice, you should advise the contact listed below as soon as possible.

ADDRESSES: Direct all comments to Judy Boley, Federal Communications Commission, Room 1-C804, 445 12th Street, SW., Washington, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0741.

Title: Implementation of the Local Competition Provisions of the Telecommunications Act of 1996, CC Docket No. 96-98, Second Report and Order and Memorandum Opinion and Order; Second Order on Reconsideration; CC Docket No. 99-273, First Report and Order.

Form No.: N/A.

Type of Review: Revision of a currently approved collection.

Respondents: Businesses or other for-profit.

Number of Respondents: 2,000.

Estimated Time Per Response: 8-36 hours.

Frequency of Response: On occasion reporting requirement and third party disclosure requirement.

Total Annual Burden: 228,030 hours.

Total Annual Cost: $60,000.

Needs and Uses: In the First Report and Order (R&O) issued in CC Docket No. 99-273, the Commission adopts several of its tentative conclusions. The Commission concludes that local exchange carriers must provide competing directory assistance (DA) providers that qualify under section 251 of the Communications Act, with nondiscriminatory access to the LECs local directory assistance databases, and must do so at nondiscriminatory and reasonable rates. The Commission determined that LECs are not required to grant competing DA providers nondiscriminatory access to non-local directory assistance databases.

OMB Control No.: 3060-0624.

Title: Section 24.103(f), Construction Requirements.

Form No.: N/A.

Type of Review: Revision of a currently approved collection.

Respondents: Individuals or households, businesses or other for-profit, not-for-profit institutions, and state, local or tribal government.

Number of Responsdents: 8.

Estimated Time per Response: 250 hours for nationwide licensees; 50 hours for regional licensees; and 25 hours for MTA licensees.

Frequency of Response: Recordkeeping requirement and 10 year reporting requirement.

Total Annual Burden: 770 hours.

Total Annual Cost: N/A.

Needs and Uses: The Commission adopted a number of modifications to our existing narrowband Personal Communications Services (PCS) rules in the Second Report and Order in Gen. Docket No. 90-314, ET Docket No. 92-100, and PP Docket No. 93-253. These modifications include the use of Major Trading Areas (MTA's) for future licensing, the establishment of a “substantial service” alternative to our construction benchmarks, and modifications to certain provisions of our narrowband PCS competitive bidding rules. The information collection requirements are used to ensure that licensees quickly construct their systems and that the systems serve significant areas.

Federal Communications Commission.
Magalie Roman Salas,
Secretary.

[FR Doc. 01-5043 Filed 3-1-01; 8:45 am]

BILLING CODE 6712-01-M